SECURITIES AND EXCHANGE COMMISSION

Sunshine Act Meeting

Federal Register Citation of Previous Announcement: [To be published].

Status: Closed meeting.

Place: 450 Fifth Street, NW., Washington, DC.

Date Previously Announced: August 26, 2001.

Change in the Meeting: Cancellation of Meeting.

The closed meeting scheduled for Thursday, August 9, 2001 at 11:00 a.m. has been cancelled.

Dated: August 6, 2001.
Margaret H. McFarland,
Deputy Secretary.

[FR Doc. 01-20065 Filed 8-6-01; 4:42 pm]

BILLING CODE 8010-01-M